ENVIRONMENTAL PROTECTION AGENCY

[FRL-6604-1]

Public Water System Supervision Program Revision for the State of South Dakota

AGENCY: Environmental Protection Agency (EPA).

ACTION: Notice.

SUMMARY: The State of South Dakota has revised its Public Water System Supervision (PWSS) Primacy Program. South Dakota's PWSS program, administered by the Drinking Water Program of the South Dakota Department of Environment and Natural Resources (DENR), has adopted regulations for lead and copper in drinking water that correspond to the National Primary Drinking Water Regulations (NPDWR) in 40 CFR part 141 Subpart I (56 FR 26460-26564). The Environmental Protection Agency (EPA) published a proposed primacy revision on August 16, 1999 at 64 FR 44521 and provided for public comment. The EPA also held a public hearing on December 2, 1999, in Badlands National Park, South Dakota (64 FR 61109). No comments were received regarding PWSS program issues. The EPA has completed its review of South Dakota's primacy revisions and has determined that they are no less stringent than the NPDWR. EPA therefore approves South Dakota's primacy revisions for the Lead and Copper Rule.

Today's approval action does not extend to public water systems in Indian Country as that term is defined in 18 U.S.C. 1151. Please see SUPPLEMENTARY INFORMATION, Item B.

DATES: This primacy revision approval will be effective June 8, 2000.

FOR FURTHER INFORMATION CONTACT: Linda Himmelbauer, Municipal Systems Unit, EPA Region 8 (8P-W-MS), 999 18th Street, Suite 500, Denver, Colorado 80202-2466, telephone 303-312-6263.

SUPPLEMENTARY INFORMATION:

A. Why Are Revisions to State Programs Necessary?

States which have received primacy from EPA under the SDWA must maintain a safe drinking water program that is equivalent to, consistent with, and no less stringent than the Federal program. As the Federal program changes, States must change their program and ask EPA to approve the revisions to their programs. Changes to State programs may be necessary when Federal or State statutory or regulatory authority is modified or when certain other changes occur.

B. How Does Today's Action Affect Indian Country (18 U.S.C. Section 1151) in South Dakota?

South Dakota is not authorized to carry out its Public Water System Supervision program in Indian country, as defined in 18 U.S.C. 1151. This includes, but is not limited to: Lands within the exterior boundaries of the following Indian Reservations located within the State of South Dakota:

a. Cheyenne River Indian Reservation.

b. Crow Creek Indian Reservation.

c. Flandreau Indian Reservation.

d. Lower Brule Indian Reservation.

e. Pine Ridge Indian Reservation.

f. Rosebud Indian Reservation.

g. Standing Rock Indian Reservation.

h. Yankton Indian Reservation.

EPA held a public hearing on December 2, 1999, in Badlands National Park, South Dakota, and accepted public comments on the question of the location and extent of Indian country within the State of South Dakota. In a forthcoming Federal Register notice, EPA will respond to comments and more specifically identify Indian country areas in the State of South Dakota.

C. Reviewing Documents and Public Comments

All documents relating to this determination are available for inspection at the following locations: (1) U.S. EPA Region 8, Municipal Systems Unit, 999 18th Street (4th floor), Denver, Colorado 80202-2466; (2) South Dakota Department of Environment and Natural Resources, Drinking Water Program, 523 East Capital Avenue, Pierre, South Dakota 57501.

Dated: May 1, 2000.
Jack W. McGraw,
Acting Regional Administrator, Region 8.

[FR Doc. 00-11565 Filed 5-8-00; 8:45 am]

BILLING CODE 6560-50-P